DEPARTMENT OF COMMERCE

National Oceanic and Atmospheric Administration

50 CFR Part 679

[Docket No. 041126332-5039-02; I.D. 091605F]

Fisheries of the Exclusive Economic Zone Off Alaska; Yellowfin Sole in the Bering Sea and Aleutian Islands Management Area

AGENCY: National Marine Fisheries Service (NMFS), National Oceanic and Atmospheric Administration (NOAA), Commerce.

ACTION: Temporary rule; rescinding the prohibition of retention.

SUMMARY: NMFS is rescinding the prohibition on retention of yellowfin sole in the Bering Sea and Aleutian Islands management area (BSAI). This action is necessary to fully use the 2005 total allowable catch of yellowfin sole in the BSAI and to allow vessels to retain yellowfin sole and reduce discards.

DATES: Effective 1200 hrs, Alaska local time (A.l.t.), September 17, 2005, until 2400 hrs, A.l.t., December 31, 2005.

FOR FURTHER INFORMATION CONTACT: Mary Furuness, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2005 TAC of yellowfin sole in the BSAI was established as 83,883 metric tons by the 2005 and 2006 final harvest specifications for groundfish in the BSAI (70 FR 8979, February 24, 2005) and the apportionment of the non-specified reserve to the yellowfin sole TAC on July 28, 2005 (70 FR 43644, July 28, 2005) and September 16, 2005 (70 FR 54656, September 16, 2005).

NMFS prohibited retention of yellowfin sole BSAI under § 679.20(d)(2) on August 24, 2005 (70 FR 50995, August 29, 2005).

NMFS has determined that approximately 240 mt of yellowfin sole remain in the directed fishing allowance. Therefore to fully utilize the 2005 TAC of yellowfin sole in the BSAI, NMFS is rescinding the prohibition on retention and is allowing that catches of yellowfin sole in this area be retained according to the maximum retainable amounts at 50 CFR 679.20(e) and (f).

Classification

This action responds to the best available information recently obtained from the fishery. The Assistant Administrator for Fisheries, NOAA, (AA), finds good cause to waive the requirement to provide prior notice and opportunity for public comment pursuant to the authority set forth at 5 U.S.C. 553(b)(B) as such a requirement is impracticable and contrary to the public interest. This requirement is impracticable and contrary to the public interest as it would prevent NMFS from immediately implementing this action in order to allow the retention of yellowfin sole by vessels fishing in the BSAI. Approximately 36 hook-and-line catcher/processors will be fishing in the BSAI into December. Approximately 240 metric tons of yellowfin sole TAC remains. Therefore, it is no longer necessary to prohibit retention of yellowfin sole. Allowing for prior notice and opportunity for public comment would prevent the fisheries from realizing the economic benefits of this action. In addition, this rule is not subject to a 30- day delay in the effective date pursuant to 5 U.S.C. 553(d)(1) because it relieves a restriction. This action allows vessels to retain yellowfin sole and reduce discards.

Because prior notice and opportunity for public comment are not required for this rule by 5 U.S.C. 553, or by any other law, the analytical requirements of the Regulatory Flexibility Act, 5 U.S.C. 601 et seq., are inapplicable.

This action has been determined to be not significant for purposes of Executive Order 12866.

Authority: 16 U.S.C. 1801 et seq.

Dated: September 16, 2005.
Emily Menashes,
Acting Director, Office of Sustainable Fisheries, National Marine Fisheries Service.

[FR Doc. 05-18850 Filed 9-16-05; 2:03 pm]

BILLING CODE 3510-22-S